DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Questionnaire for Building Permit Officials.

Form Number(s): SOC-QBPO.

Agency Approval Number: 0607-0125.

Type of Request: Extension of a currently approved collection.

Burden: 225.

Number of Respondents: 900.

Avg Hours Per Response: 15 minutes.

Needs and Uses: The Census Bureau uses the SOC-QBPO to collect information from state and local building permit officials, such as (1) the types of permits they issue, (2) the length of time a permit is valid, (3) how they store the permits, and (4) the geographic coverage of the permit system. Census Bureau field representatives visit selected permit-issuing places and conduct the survey using Computer-Assisted Personal Interviewing (CAPI) technology and a lap top computer. We need this information to carry out the sampling for the Survey of Housing Starts, Sales and Completions (OMB number 0607-0110), also known as the Survey of Construction (SOC). The SOC provides widely used measures of construction activity, including the economic indicators Housing Starts, Housing Completions, and New Housing Sales.

We plan no changes to the information collection methodology. We have increased the number of respondents from 835 to 900 due to local changes in municipal laws. The land area covered by the survey has not increased, but when a municipality begins issuing its own permits independently from the jurisdiction that previously covered their permits (usually a county government), that new municipality becomes part of the survey.

Affected Public: Businesses or other for-profit organizations.

Frequency: Annually.

Respondent's Obligation: Voluntary.

Legal Authority: Title 13 USC, Section 182.

OMB Desk Officer: Susan Schechter, (202) 395-5103.

Copies of the above information collection proposal can be obtained by calling or writing Linda Engelmeier, DOC Forms Clearance Officer, (202) 482-3272, Department of Commerce, room 5027, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: March 13, 2000.
Madeleine Clayton,
Management Analyst, Office of the Chief Information Officer.

[FR Doc. 00-6611 Filed 3-16-00; 8:45 am]

BILLING CODE 3510-07-P